DEPARTMENT OF COMMERCE

Foreign-Trade Zones Board

[S-11-2017]

Approval of Subzone Status; LT Autos, LLC, Ponce, Puerto Rico

On January 31, 2017, the Executive Secretary of the Foreign-Trade Zones (FTZ) Board docketed an application submitted by CODEZOL, C.D., grantee of FTZ 163, requesting subzone status subject to the existing activation limit of FTZ 163, on behalf of LT Autos, LLC, in Ponce, Puerto Rico. The application was amended on June 28, 2017.

The amended application was processed in accordance with the FTZ Act and Regulations, including notices in the Federal Register inviting public comment (82 FR 9370-9371, February 6, 2017; 82 FR 32530-32531, July 14, 2017). The FTZ staff examiner reviewed the amended application and determined that it meets the criteria for approval. Pursuant to the authority delegated to the FTZ Board's Executive Secretary (15 CFR 400.36(f)), the amended application to establish Subzone 163J was approved on September 7, 2017, subject to the FTZ Act and the Board's regulations, including Section 400.13, and further subject to FTZ 163's 923.36-acre activation limit.

Dated: September 22, 2017.
Andrew McGilvray,
Executive Secretary.

[FR Doc. 2017-20808 Filed 9-27-17; 8:45 am]

BILLING CODE 3510-DS-P